DEPARTMENT OF HEALTH AND HUMAN SERVICES

Administration for Children and Families

[CFDA numbers: 93.581, 93.587, 93.612]

Notice of Final Issuance Adopting Administration for Native Americans (ANA) Program Policies and Procedures

AGENCY: ANA, ACF, HHS.

ACTION: Issuance of Final Policies.

SUMMARY: The Administration for Native Americans (ANA) is issuing final interpretive rules, general statements of policy, and rules of agency organization, procedure, or practice relating to the following seven Funding Opportunity Announcements (FOAs): Environmental Regulatory Enhancement (HHS-2017-ACF-ANA-NR-1221); Sustainable Employment and Economic Development Strategies (HHS-2017-ACF-ANA-NE-1225); Native American Language Preservation and Maintenance—Esther Martinez Immersion (HHS-2017-ACF-ANA-NB-1226); Native American Language Preservation and Maintenance (HHS-2017-ACF-ANA-NL-1235); Social and Economic Development Strategies (HHS-2017-ACF-ANA-NA-1236); Social and Economic Development Strategies—Alaska (HHS-2015-ACF-ANA-NK- 0960); and Native Youth Initiative for Leadership, Empowerment, and Development (HHS-2017-ACF-ANA-NC-1263).

DATES: The policies described in the Notice for Public Comment (NOPC) are effective immediately upon publication.

FOR FURTHER INFORMATION CONTACT: Carmelia Strickland, Director, Division of Program Operations and Administration for Native Americans, (877) 922-9262.

SUPPLEMENTARY INFORMATION: Section 814 of the Native American Programs Act of 1974 (NAPA), as amended, requires ANA to provide notice and allow for comment on its proposed interpretive rules and general statements of policy. This Notice responds to comments to ANA's January 23, 2017, NOPC, provides notice of the cancellation of the Fiscal Year (FY) 2017 Sustainable Employment and Economic Development Strategies (SEEDS) FOA, and provides information on where to find the FY 2017 FOAs.

A. Comments and Responses to the 2017 NOPC

ANA published a NOPC in the Federal Register on January 23, 2017 (82 FR 7834), with proposed policy and program clarifications, modifications, and activities for the FY 2017 FOAs. The NOPCs provided proposed clarifications, modifications, and new text for seven FY 2017 FOAs: Environmental Regulatory Enhancement (HHS-2017-ACF-ANA-NR-1221); Sustainable Employment and Economic Development Strategies (HHS-2017-ACF-ANA-NE-1225); Native American Language Preservation and Maintenance—Esther Martinez Immersion (HHS-2017-ACF-ANA-NB-1226); Native American Language Preservation and Maintenance (HHS- 2017-ACF-ANA-NL-1235); Social and Economic Development Strategies (HHS-2017-ACF-ANA-NA-1236); Social and Economic Development Strategies—Alaska (HHS-2015-ACF-ANA-NK-0960); and Native Youth Initiative for Leadership, Empowerment, and Development (HHS-2017-ACF-ANA-NC-1263). The public comment period was open for 30 days.

ANA received feedback from the Cherokee Nation. ANA considered the comments and determined none of them required changes to any of the FOAs. Many of the comments expressed agreement with ANA's changes to the FOAs. We appreciate the comments and they require no response or changes. A few comments expressed concerns or made suggestions about some of the changes. We respond to those below:

Comment: Regarding access in all FOAs to ANA's Application Toolkit, commenter commended the addition of the Toolkit and recommended introductory webinars to roll out the Toolkit.

Response: ANA will make no changes to the FOAs in response to this comment. ANA will be providing information about the new Application Toolkit in a variety of ways, including webinars and ANA's pre-application trainings.

Comment: With respect to the modification of application due dates under the Native Youth Initiative for Leadership, Empowerment, and Development FOA to align with ANA's other FOAs, the commenter noted this change would help streamline ANA's grant processes and that such change was not unexpected. The commenter did express concern about lower quality proposals being submitted if tribes submitted multiple ANA applications in the same application period.

Response: ANA will make no changes to the FOAs in response to this comment. In response to the concern about multiple ANA applications being due at the same time, ANA is considering how to alleviate some of that burden by looking at ways to make the application process less burdensome for applicants interested in submitting applications under more than one FOA.

Comment: The commenter suggested that ANA broaden the scope of pre-application training to include examples of successful applications and separate webinars for each of ANA's FOAs rather than pre-application trainings that address all of ANA's FOAs.

Response: ANA will make no changes to the FOAs in response to this comment. With respect to provision of successful applications, as stated in the NOPC, ACF policy requires that no additional information that is not already provided in the FOA can be disseminated after FOAs have been published. In addition, ANA's pre-application trainings will continue to address all six of ANA's FOAs to allow potential applicants to benefit from being able to travel to one place to learn, in detail, about all of ANA's FOAs and how they may address community needs.

B. Cancellation of 2017 Sustainable Employment and Economic Development Strategies (SEEDS) FOA

ANA forecasted the issuance of SEEDS FOA (HHS-ACF-ANA-NE-1225) for FY 2017 and included it in the NOPC in the Federal Register (82 FR 7834) on January 23, 2017. Since the forecast and publication of the NOPC, ANA has determined that it will not publish the SEEDS FOA in 2017 due to limited funding for new awards. Currently funded SEEDS projects will continue to receive funding. Applicants interested in economic development projects in FY 2017 should consider the SEDS program, HHS-ACF-ANA-NA-1236.

ANA is not seeking comments on this cancellation of the SEEDS FOA. Section 814(b) of NAPA requires that ANA follow the notice and comment procedures in the Administrative Procedure Act at 5 U.S.C. 553 for interpretive rules and statements of policy but, like in 5 U.S.C. 553, creates an exception when the agency for good cause finds that notice and public procedure are “impracticable, unnecessary, or contrary to the public interest.” Seeking comments on the cancellation is impracticable because ANA has made this decision due to a lack of funding and any comments cannot change ANA's funding for FY 2017.

C. Funding Opportunity Announcements

For information on the types of projects funded by ANA, please refer to ANA's Web site for information on our program areas and funding opportunity announcements: http://www.acf.hhs.gov/programs/ana. Pre-publication information on ANA's FOAs is available at https://www.grants.gov/web/grants/search-grants.html by clicking on `Forecasted' under Opportunity Status and `Administration for Children and Families—ANA [HHS-ACF-ANA]' on the left side of the page. ANA's 2017 FOAs can be accessed at: http://www.acf.hhs.gov/grants/open/foa/office/ana or http://www.acf.hhs.gov/grants/open/foa/. Synopses and application forms will be available on www.Grants.gov.

Dated: April 28, 2017.
Stacey Ecoffey,
Acting Commissioner, Administration for Native American.

[FR Doc. 2017-09148 Filed 5-4-17; 8:45 am]

BILLING CODE 4184-01-P